DEPARTMENT OF TRANSPORTATION

Federal Aviation Administration

14 CFR Part 71

[Docket No. FAA-2016-9265; Airspace Docket No. 16-ANM-11]

RIN 2120-AA66

Amendment of VOR Federal Airways V-235 and V-293 in the Vicinity of Cedar City, Utah

AGENCY: Federal Aviation Administration (FAA), DOT.

ACTION: Final rule; correction.

SUMMARY: This action corrects the preamble to a final rule published in the Federal Register of December 6, 2016, amending two Air Traffic Service Routes (ATS) in the vicinity of Cedar City, Utah. The three letter identifier for the renamed Enoch VOR/DME navigation aid is changed from (ENK) to (EHK).

DATES: The effective date of this final rule remains 0901 UTC, March 2, 2017. The Director of the Federal Register approves this incorporation by reference under Title 1, Code of Federal Regulations, part 51, subject to the annual revision of FAA Order 7400.11 and publication of conforming amendments.

FOR FURTHER INFORMATION CONTACT: Kenneth Ready, Airspace Policy Group, Office of Airspace Services, Federal Aviation Administration, 800 Independence Avenue SW., Washington, DC 20591; telephone: (202) 267-8783.

SUPPLEMENTARY INFORMATION:

Correction

In the final rule FR Doc. 2016-29143, beginning on page 87802, in the issue of December 6, 2016, make the following correction, in “The Rule” section: On page 87802, column 3, line 61, remove “(ENK)” and add in its place “(EHK)”.

Issued in Washington, DC, on February 8, 2017.
Leslie M. Swann,
Acting Manager, Airspace Policy Group.

[FR Doc. 2017-03544 Filed 2-23-17; 8:45 am]

BILLING CODE 4910-13-P